DEPARTMENT OF EDUCATION

Direct Grant Programs

AGENCY: Department of Education.

ACTION: Notice reopening application deadline dates for certain direct grants.

SUMMARY: The Secretary reopens the deadline dates for the submission of applications by certain applicants (see Eligibility) under certain direct grant programs. All of the affected competitions are among those under which the Secretary is making new awards for fiscal year (FY) 2001. The Secretary takes this action to allow more time for the preparation and submission of applications by potential applicants adversely affected by severe weather conditions resulting from Tropical Storm Allison. The reopenings are intended to help these potential applicants compete fairly with other applicants under these programs.

Note: One of the affected programs or competitions is under the Office of Postsecondary Education and four are under the Office of Elementary and Secondary Education. You can find information related to each of these competitions under the “List of Programs Affected” in this notice.

Eligibility: The extension of deadline dates in this notice applies to you if you are a potential applicant in areas of Louisiana, Texas, or Florida that the President has declared a disaster area as a result of Tropical Storm Allison. These areas include the following:

State | County and/or city
Florida | Bay, Calhoun, Gadsden, Holmes, Jefferson, Leon, Liberty, Wakulla, and Washington.
Louisiana | Ascension, Assumption, Beauregard, East Baton Rouge, Iberia, Iberville, Jefferson, Lafayette, Lafourche, Livingston, Orleans, St. Charles, St. James, St. John the Baptist, St. Martin, St. Mary, St. Tammany, Tangipahoa, Terrebonne, Vermillion, and Washington.
Texas | Anderson, Angelina, Brazoria, Cherokee, Chambers, Fort Bend, Galveston, Hardin, Harris, Houston, Jasper, Jefferson, Leon, Liberty, Madison, Montgomery, Nacogdoches, Newton, Orange, Polk, Sabine, San Augustine, San Jacinto, Shelby, Smith, Trinity, Tyler, and Walker.

DATES: The new deadline date for transmitting applications under each competition is listed with that competition.

If the program in which you are interested is subject to Executive Order 12372, the deadline date for the transmittal of State process recommendations by State Single Points of Contact (SPOCs) and comments by other interested parties remains as originally posted.

ADDRESSES: The address and telephone number for obtaining applications for, or information about, an individual program are in the application notice for that program. We have listed the date and Federal Register citation of the application notice for each program.

If you use a telecommunications device for the deaf (TDD), you may call the TDD number, if any, listed in the individual application notice. If we have not listed a TDD number, you may call the Federal Information Relay Service (FIRS) at 1-800-877-8339.

If you want to transmit a recommendation or comment under Executive Order 12372, you can find the latest list and addresses of individual SPOCs on the Web site of the Office of Management and Budget at the following address: http://www.whitehouse.gov/omb/grants

You can also find the list of SPOCs in the appendix to the Forecast of Funding Opportunities under the Department of 1 Education Discretionary Grant Programs for Fiscal Year (FY) 2001. This is available on the Internet at: ed.gov/funding.html.

SUPPLEMENTARY INFORMATION: The following is specific information about each of the programs or competitions covered by this notice:

List of Programs Affected
CFDA No. and name | Publication date and Federal Register cite | Original deadline date for applications | Revised deadline date for applications
Office of Postsecondary Education:
84.339B Learning Anytime Anywhere Partnerships (LAAP) | 1/16/01 (66 FR 3557) | 6/15/01 | 6/27/01
Office of Elementary and Secondary Education:
84.215 Fund for the Improvement of Education Program: Physical Education for Progress | 5/07/01 (66 FR 23006) | 6/18/01 | 7/02/01
84.310A Parental Assistance Program | 5/07/01 (66 FR 23008) | 6/21/01 | 7/02/01
84.349A Early Childhood Educator Professional Development Program | 4/24/01 (66 FR 20640) | 6/25/01 | 7/02/01
84.350A Transition to Teaching Program | 4/16/01 (66 FR 19678) | 6/15/01 | 7/02/01

If you are an individual with a disability, you may obtain a copy of this notice in an alternative format (e.g., Braille, large print, audiotape, or computer diskette) on request to the contact person listed in the individual application notices.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Dated: June 20, 2001.
Mark Carney,
Deputy Chief Financial Officer.

[FR Doc. 01-16000 Filed 6-21-01; 4:28 pm]

BILLING CODE 4000-01-U